ENVIRONMENTAL PROTECTION AGENCY

[FRL OP-OFA-109]

Environmental Impact Statements; Notice of Availability

Responsible Agency: Office of Federal Activities, General Information 202-564-5632 or https://www.epa.gov/nepa.

Weekly receipt of Environmental Impact Statements (EIS)

Filed January 29, 2024 10 a.m. EST Through February 5, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240016, Final Supplement, FHWA, OR, Earthquake Ready Burnside Bridge, Contact: Thomas Parker 503-316-2549.

EIS No. 20240017, Final, BLM, WY, ADOPTION—Sentinel (GSBD) Deployment and Minuteman III Decommissioning and Disposal, Contact: Dan Brunkhorst 406-538-1981.

The Bureau of Land Management (BLM) has adopted the United States Air Force's Final EIS No. 20230043 filed 03/22/2023 with the Environmental Protection Agency. The BLM was a cooperating agency on this project. Therefore, republication of the document is not necessary under Section 1506.3(b)(2) of the CEQ regulations.

EIS No. 20240018, Final Supplement, USFS, ID, Nez Perce-Clearwater NF Travel Plan and OHV Rule Implementation, Review Period Ends: 03/11/2024, Contact: Zoanne Anderson 360-749-9510.

EIS No. 20240019, Second Final Supplemental, DOE, AR, Long-Term Management and Storage of Elemental Mercury, Review Period Ends: 03/11/2024, Contact: Timothy Herald 240-243-8753.

EIS No. 20240020, Draft Supplement, USFWS, NE, Draft Supplemental Environmental Impact Statement for the Nebraska Public Power District Revised R-Project Habitat Conservation Plan, Comment Period Ends: 04/09/2024, Contact: Jeff Runge 308-382-6468.

EIS No. 20240021, Final, NSA, MD, O'Brien Road Access Modernization, Review Period Ends: 03/11/2024, Contact: Jeffrey Williams 301-688-2970.

EIS No. 20240022, Final, USFS, WY, ADOPTION—Sentinel (GSBD) Deployment and Minuteman III Decommissioning and Disposal, Contact: Vernon E. Koehler 719-252-4778.

The Forest Service (USFS) has adopted the United States Air Force's Final EIS No. 20230043 filed 03/22/2023 with the Environmental Protection Agency. The USFS was a cooperating agency on this project. Therefore, republication of the document is not necessary under Section 1506.3(b)(2) of the CEQ regulations.

EIS No. 20240023, Draft, NMFS, CA, Consideration of Exempted Fishing Permits for Testing Fishing Practices to Target Swordfish and Other Marketable Highly Migratory Species in the United States West Coast Exclusive Economic Zone, Comment Period Ends: 04/09/2024, Contact: Amber Rhodes 202-936-6132.

EIS No. 20240024, Draft Supplement, BR, UT, Glen Canyon Dam Long-Term Experimental and Management Plan, Comment Period Ends: 03/25/2024, Contact: Wayne Pullan 801-524-3600.

Dated: February 6, 2024.
Julie Smith,
Acting Director, NEPA Compliance Division, Office of Federal Activities.

[FR Doc. 2024-02676 Filed 2-8-24; 8:45 am]

BILLING CODE 6560-50-P